DEPARTMENT OF ENERGY

Federal Energy Regulatory Commission

[Docket No. EL00-73-002, et al.]

New England Power Company, et al.; Electric Rate and Corporate Regulation Filings

December 14, 2001.

Take notice that the following filings have been made with the Commission:

1. New England Power Company

[Docket No. EL00-73-002]

Take notice that on December 7, 2001, New England Power Company (NEP) tendered for filing with the Federal Energy Regulatory Commission (Commission) a Refund Report along with supporting documents. The refunds were made in compliance with a November 7, 2001 Commission order issued in the above-referenced proceeding.

NEP states that copies of the Refund Report have been served on the persons listed on the official service list for this proceeding and the Massachusetts Department of Telecommunications and Energy.

Comment date: January 8, 2002, in accordance with Standard Paragraph E at the end of this notice.

2. NRG Power Marketing Inc.

[Docket No. ER97-4281-012]

Take notice that on December 11, 2001, NRG Power Marketing Inc., tendered for filing with the Federal Energy Regulatory Commission (Commission) an updated market power study in compliance with the Commission's Order in NRG Power Marketing, Inc. Docket No. ER97-4281-001.

Comment date: January 2, 2002, in accordance with Standard Paragraph E at the end of this notice.

3. Arizona Public Service Company

[Docket No. ER01-463-006]

Take notice that on December 10, 2001, Arizona Public Service Company (APS) tendered for filing with the Federal Energy Regulatory Commission (Commission) its Compliance to Commission's Order on Compliance Filing in Docket No. ER01-463-005.

A copy of this filing has been served on all parties on the official service list.

Comment date: December 31, 2001, in accordance with Standard Paragraph E at the end of this notice.

4. Duke Energy South Bay, LLC

[Docket No. ER02-239-002]

Take notice that on December 11, 2001, Duke Energy South Bay, L.L.C. (DESB) tendered for filing with the Federal Energy Regulatory Commission (Commission) Substitute Third Revised Sheet No. 8 to DESB's FERC Electric Rate Schedule No. 2. DESB States that this Substitute sheet is being filed to correct omissions from their November 1, 2001 filing in this proceeding. Specifically these corrections are to Schedule A, sections 12 and 13 of its Reliability Must Run Service Agreement (RMR Agreement) with the California Independent System Operator (CAISO).

DESB requests an effective date of January 1, 2002, for these revisions.

Copies of the filing have been served upon each person designated on the official service list compiled by the Secretary in this proceeding.

Comment date: January 2, 2002, in accordance with Standard Paragraph E at the end of this notice.

5. Duke Energy Oakland, LLC

[Docket No. ER02-240-001]

Take notice that on December 11, 2001, Duke Energy Oakland, L.L.C. (DEO) tendered for filing with the Federal Energy Regulatory Commission (Commission) First Revised Sheet No. 136 and Substitute Fifth Revised Sheet No. 140 to DEO's FERC Electric Rate Schedule No. 2. DEO States that these sheets are being filed to correct omissions from their November 1, 2001 filing in this proceeding. Specifically these corrections are to Schedule A, Section 13 and Schedule B, Table B-2 of its Reliability Must Run Service Agreement (RMR Agreement) with the California Independent System Operator (CAISO).

DEO requests an effective date of January 1, 2002, for these revisions.

Copies of the filing have been served upon each person designated on the official service list compiled by the Secretary in this proceeding.

Comment date: January 2, 2002, in accordance with Standard Paragraph E at the end of this notice.

6. Western Resources, Inc.

[Docket No. ER02-379-001]

Take notice that on December 10, 2001, Western Resources, Inc., (WR) amended its filing to cancel Market Based Rate Tariff Agreement with the Allegheny Energy Service Corporation, American Electric Power Service Corp., Arizona Public Service Company, Coral Power, L.L.C., Engage Energy US, L.P., Otter Tail Power Company, Rainbow Energy Marketing Corporation, and The Board of Municipal Utilities of Sikeston, Missouri.

WR requests an effective date of December 10, 2001.

Notice of the proposed termination has been served upon the above mentioned corporations and utilities and the Kansas Corporation Commission.

Comment date: December 31, 2001, in accordance with Standard Paragraph E at the end of this notice.

7. Allegheny Energy Service Corporation, on behalf of Monongahela Power Company, The Potomac Edison Company, and West Penn Power Company (Allegheny Power)

[Docket No. ER02-454-001]

Take notice that on December 10, 2001, Allegheny Energy Service Corporation on behalf of Monongahela Power Company, The Potomac Edison Company and West Penn Power Company (Allegheny Power), filed Service Agreement Nos. 364-367 under Allegheny Power's Open Access Transmission Service Tariff which has been accepted for filing by the Federal Energy Regulatory Commission in Docket No. ER96-58-000. Service Agreement Nos. 364-367 are designated to comply with Order 614. The proposed effective date for the Service Agreements is December 1, 2001.

Copies of the filing have been provided to the customer.

Comment date: December 31, 2001, in accordance with Standard Paragraph E at the end of this notice.

8. Virginia Electric and Power Company

[Docket No. ER02-511-000]

Take notice that on December 10, 2001, Virginia Electric and Power Company (Dominion Virginia Power) tendered for filing an executed Generator Interconnection and Operating Agreement (Interconnection Agreement) with Southeastern Public Service Authority of Virginia (SPSA). The Interconnection Agreement sets forth the terms and conditions governing the interconnection between SPSA's generating facility (Generating Facility) and Dominion Virginia Power's transmission system. Copies of the filing were served upon SPSA and the Virginia State Corporation Commission.

Dominion Virginia Power requests that the Commission waive its notice of filing requirements and accept this filing to make the Interconnection Agreement effective on December 11, 2001, the day after the date of filing.

Comment date: December 31, 2001, in accordance with Standard Paragraph E at the end of this notice.

9. American Transmission Systems, Incorporated

[Docket No. ER02-512-000]

Take notice that on December 10, 2001, American Transmission Systems, Incorporated filed an Agreement for construction of a new 34.5 kV delivery point with The Village of Woodville. The Agreement provides for the addition of a new 34.5 kV distribution delivery point. This filing is made pursuant to Section 205 of the Federal Power Act. Copies of this filing have been served on Woodville, American Municipal Power-Ohio, Inc., and the Public Utility Commission of Ohio.

Comment date: December 31, 2001, in accordance with Standard Paragraph E at the end of this notice.

10. American Transmission Systems, Inc.

[Docket No. ER02-513-000]

Take notice that on December 10, 2001, American Transmission Systems, Inc. filed a Service Agreement to provide Non-Firm Point-to-Point Transmission Service for Dominion Nuclear Marketing II, Inc., the Transmission Customer. Services are being provided under the American Transmission Systems, Inc. Open Access Transmission Tariff submitted for filing by the Federal Energy Regulatory Commission in Docket No. ER99-2647-000. The proposed effective date under the Service Agreement is December 6, 2001 for the above mentioned Service Agreement in this filing.

Comment date: December 31, 2001, in accordance with Standard Paragraph E at the end of this notice.

11. American Transmission Systems, Inc.

[Docket No. ER02-514-000]

Take notice that on December 10, 2001, American Transmission Systems, Inc. filed a Service Agreement to provide Firm Point-to-Point Transmission Service for Dominion Nuclear Marketing II, Inc., the Transmission Customer. Services are being provided under the American Transmission Systems, Inc. Open Access Transmission Tariff submitted for filing by the Federal Energy Regulatory Commission in Docket No. ER99-2647-000. The proposed effective date under the Service Agreement is December 6, 2001 for the above mentioned Service Agreement in this filing.

Comment date: December 31, 2001, in accordance with Standard Paragraph E at the end of this notice.

12. Western Resources, Inc.

[Docket No. ER02-515-000]

Take notice that on December 10, 2001, Western Resources, Inc. (WR) tendered for filing a Service Agreement between WR and Calpine Energy Services, L.P. (Calpine). WR states that the purpose of this agreement is to permit Calpine to take service under WR's Market Based Power Sales Tariff on file with the Commission. This agreement is proposed to be effective November 15, 2001.

Copies of the filing were served upon Calpine and the Kansas Corporation Commission.

Comment date: December 31, 2001, in accordance with Standard Paragraph E at the end of this notice.

13. Allegheny Energy Service Corporation, on behalf of Monongahela Power Company, The Potomac Edison Company and West Penn Power Company (Allegheny Power)

[Docket No. ER02-516-000]

Take notice that on December 10, 2001, Allegheny Energy Service Corporation on behalf of Monongahela Power Company, The Potomac Edison Company and West Penn Power Company (Allegheny Power) filed Schedule 13, Retail Transmission Service—Virginia to its Pro Forma Open Access Transmission Tariff (OATT). Updated customer lists and miscellaneous changes to the OATT were also filed. Allegheny Power has requested an effective date for Schedule 13 and the other changes proposed in the filing of January 1, 2002.

Copies of the filing have been provided to Allegheny Power's jurisdictional customers, the Public Utilities Commission of Ohio, the Pennsylvania Public Utility Commission, the Maryland Public Service Commission, the Virginia State Corporation Commission and the West Virginia Public Service Commission.

Comment date: December 31, 2001, in accordance with Standard Paragraph E at the end of this notice.

14. Central Vermont Public Service Corporation

[Docket No. ER02-518-000]

Take notice that on December 11, 2001, Central Vermont Public Service Corporation (Central Vermont), tendered for filing executed Service Agreements for Firm Point-to-Point Transmission Service and Non-Firm Point-to-Point Transmission Service with H.Q. Energy Services (U.S.) Inc. under Central Vermont's FERC Electric Tariff, First Revised Volume No. 7. Copies of the filing were served upon the above-mentioned company and the Vermont Public Service Board.

Central Vermont requests that the Service Agreements become effective on December 7, 2001, the date service commenced.

Comment date: January 2, 2002, in accordance with Standard Paragraph E at the end of this notice.

15. Commonwealth Edison Company

[Docket No. ER02-519-000]

Take notice that on December 11, 2001 Commonwealth Edison Company (ComEd) submitted for filing a Service Agreement for Network Integration Transmission Service (NSA) between ComEd and Nicor Energy, L.L.C. (Nicor). This agreement govern ComEd's provision of network service to serve retail load under the terms of ComEd's Open Access Transmission Tariff (OATT).

ComEd requests an effective date of December 1, 2001, and accordingly seeks waiver of the Commission's notice requirements.

Copies of this filing were served on Nicor.

Comment date: January 2, 2002, in accordance with Standard Paragraph E at the end of this notice.

16. Southwest Power Pool, Inc.

[Docket No. ER02-521-000]

Take notice that on December 11, 2001, Southwest Power pool, Inc. (SPP) submitted for filing one executed service agreement for Firm Point-to-Point Transmission Service with Western Resources Generation Services (WRGS).

SPP requests an effective date of January 1, 2002 for this service agreement. A copy of this filing was served on WRGS.

Comment date: January 2, 2002, in accordance with Standard Paragraph E at the end of this notice.

17. Commonwealth Edison Company

[Docket No. ER02-522-000]

Take notice that on December 11, 2001 Commonwealth Edison Company (ComEd) submitted for filing an amended Form of Service Agreement for Firm Point-to-Point Transmission Service (Amended Service Agreement) with Split Rock Energy, LLC (Split Rock) and a Form of Service Agreement for Firm Point-to-Point Transmission Service (Service Agreement) with NRG Power Marketing Inc. (NRG) under the terms of ComEd's Open Access Transmission Tariff (OATT). Copies of this filing were served on Split Rock and NRG.

ComEd requests an effective date of November 12, 2001, for the Amended Service Agreement with Split Rock and an effective date of November 12, 2001 for the Service Agreement with NRG, and accordingly seeks waiver of the Commission's notice requirements.

Comment date: January 2, 2002, in accordance with Standard Paragraph E at the end of this notice.

18. Illinois Power Company

[Docket No. ER02-523-000]

Take notice that on December 11, 2001, Illinois Power Company (Illinois Power), filed with the Federal Energy Regulatory Commission (Commission) nine (9) Firm Long-Term Point-To-Point Transmission Service Agreements entered into with Dynegy Power Marketing, Inc. (DPM), an affiliate of Illinois Power.

Illinois Power requests an effective date of January 1, 2002 for the agreements and seeks a waiver of the Commission's notice requirement. Illinois Power states that a copy of this filing has been sent to DPM.

Comment date: January 2, 2002, in accordance with Standard Paragraph E at the end of this notice.

19. Progress Energy Inc. on behalf of Carolina Power & Light Company

[Docket No. ER02-524-000]

Take notice that on December 11, 2001, Carolina Power & Light Company (CP&L) tendered for filing an executed Service Agreement between CP&L and the following eligible buyer, Western Resources, Inc. Service to this eligible buyer will be in accordance with the terms and conditions of CP&L's Market-Based Rates Tariff, FERC Electric Tariff No. 5.

CP&L requests an effective date of December 1, 2001 for this Service Agreement.

Copies of the filing were served upon the North Carolina Utilities Commission and the South Carolina Public Service Commission.

Comment date: January 2, 2002, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31308 Filed 12-19-01; 8:45 am]

BILLING CODE 6717-01-P